FEDERAL COMMUNICATIONS COMMISSION

47 CFR Part 73

[MM 95-31; DA 02-804]

Reexamination of the Comparative Standards for Noncommercial Educational Applicants; Association of America's Public Television Stations' Motion for Stay of Low Power Television Auction (No. 81)

AGENCY: Federal Communications Commission.

ACTION: Proposed rule; extension of comment period.

SUMMARY: In this document, the Media Bureau of the Commission extends the deadline for filing comments and reply comments. The Bureau takes this action upon the motion of several interested parties. A brief extension of time will provide the public additional time to consider the difficult legal and policy issues at stake in the proceeding, and will not compromise the timely resolution of those issues.

DATES: Comments are due on or before May 15, 2002; reply comments are due on or before June 17, 2002.

FOR FURTHER INFORMATION CONTACT: Eric Bash, Policy Division, Media Bureau, (202) 418-2130 or ebash@fcc.gov.

SUPPLEMENTARY INFORMATION: This is a summary of the Media Bureau's Order in MM 95-31; DA 02-804, adopted April 9, 2002 and released April 9, 2002. The complete text of this Order is available for inspection and copying during normal business hours in the FCC Reference Center, Room CY-A257, 445 12th Street, SW., Washington, DC and may also be purchased from the Commission's copy contractor, Qualex International, Portals II, 445 12th Street SW., Room CY-B-402, Washington, DC 20554, telephone (202) 863-2893, facsimile (202) 863-2898, or via e-mail qualexint@aol.com. Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address> .” A sample form and directions will be sent in reply. Parties who choose to file by paper must file an original and four copies of each filing. If more than one docket or rulemaking number appear in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Vistronix, Inc., will receive hand-delivered or messenger-delivered paper filings for the Commission's Secretary at 236 Massachusetts Avenue, NE., Suite 110, Washington, DC 20002. The filing hours at this location are 8:00 a.m. to 7:00 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be addressed to the Commission's Secretary, Office of the Secretary, Federal Communications Commission.

Synopsis of Order

1. Before the Media Bureau is the Motion for Extension of Time (“Motion”), filed by the Station Resources Group, National Public Radio, Association of America's Public Television Stations, the National Federation of Community Broadcasters, on behalf of themselves and their members, and the Corporation for Public Broadcasting (collectively, “Petitioners”). By this Order, the Media Bureau grants the Motion.

2. This docket has involved a series of notices and orders on the licensing of spectrum to noncommercial educational (“NCE”) broadcast stations. Most recently, the Commission issued the Second Further Notice of Proposed Rulemaking (“2FNPRM”), 67 FR 9945 (March 5, 2002), in this proceeding to seek comment on how to allocate and license spectrum that the Commission has not reserved specifically for NCE stations. In taking this action, the Commission responded to the decision of the U.S. Court of Appeals for the D.C. Circuit in National Public Radio v. FCC, which vacated the Commission's prior decision to resolve mutually exclusive applications for such “non-reserved” spectrum via competitive bidding, even when NCE stations had filed one or more of the applications. The 2FNPRM established April 15, 2002 as the deadline for interested parties to file comments on new mechanisms to allocate and license non-reserved spectrum, and May 15, 2002 as the deadline for interested parties to file replies.

3. The Petitioners request the Media Bureau to extend the comment deadline by thirty days, until May 15, 2002. The Petitioners state that the Commission only provided the public forty-five days to comment on “a difficult issue of statutory interpretation and communications policy” that “the Commission has been trying to resolve for many years. A brief extension of time is requested in order to permit various interested parties to work together to formulate an approach that will successfully resolve these issues.” The Media Bureau has not received any opposition to the Motion.

4. Because delay in resolving this proceeding causes delay in allocating and licensing non-reserved spectrum in which both commercial and NCE stations have an interest, timely completion of this proceeding is especially important. At the same time, as Petitioners note, the question presented here is particularly difficult and its resolution is of vital concern to future applicants for NCE stations. Petitioners appear to be working together to fashion a consensus recommendation, and this could be very useful to the Commission in resolving this longstanding matter. In addition, the extension requested is for a relatively short period of time, and should not compromise the timely resolution of the proceeding. Good cause thus exists for, and the public interest would be served by, grant of Petitioners' Motion. Accordingly, the comment deadline in this proceeding is extended until May 15, 2002, and the reply comment deadline is extended until June 17, 2002.

5. Pursuant to § 1.46 of the Commission's rules, Petitioners' Motion is granted.

6. This action is taken pursuant to authority delegated by § 0.283 of the Commission's rules, 47 CFR 0.283.

Federal Communications Commission.
William F. Caton,
Acting Secretary.

[FR Doc. 02-9871 Filed 4-22-02; 8:45 am]

BILLING CODE 6712-01-P